DEPARTMENT OF COMMERCE

International Trade Administration

[A-570-909]

Notice of Antidumping Duty Order: Certain Steel Nails From the People's Republic of China

AGENCY: Import Administration, International Trade Administration, Department of Commerce.

SUMMARY: Based on affirmative final determinations by the Department of Commerce (the “Department”) and the International Trade Commission (“ITC”), the Department is issuing an antidumping duty order on certain steel nails from the People's Republic of China (“PRC”). On July 21, 2008, the ITC notified the Department of its affirmative determination of material injury to a U.S. industry. See Certain Steel Nails from China, Investigation No. 731-TA-1114 (Final), USITC Publication 4022 (July 2008).

EFFECTIVE DATES: August 1, 2008

FOR FURTHER INFORMATION CONTACT: Matthew Renkey or Alex Villanueva, AD/CVD Operations, Office 9, Import Administration, International Trade Administration, U.S. Department of Commerce, 14th Street and Constitution Avenue, NW., Washington, DC 20230; telephone: (202) 482-2312, or (202) 482-3208, respectively.

SUPPLEMENTARY INFORMATION:

Background

In accordance with sections 735(d) and 777(i)(1) of the Tariff Act of 1930, as amended (the “Act”), on June 16, 2008, the Department published Certain Steel Nails from the People's Republic of China: Final Determination of Sales at Less Than Fair Value and Partial Affirmative Determination of Critical Circumstances, 73 FR 33977 (June 16, 2008) (“Final Determination”).

Scope of the Order

The merchandise covered by this proceeding includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot-dipping one or more times), phosphate cement, and paint. Head styles include, but are not limited to, flat, projection, cupped, oval, brad, headless, double, countersunk, and sinker. Shank styles include, but are not limited to, smooth, barbed, screw threaded, ring shank and fluted shank styles. Screw-threaded nails subject to this proceeding are driven using direct force and not by turning the fastener using a tool that engages with the head. Point styles include, but are not limited to, diamond, blunt, needle, chisel and no point. Finished nails may be sold in bulk, or they may be collated into strips or coils using materials such as plastic, paper, or wire. Certain steel nails subject to this proceeding are currently classified under the Harmonized Tariff Schedule of the United States (“HTSUS”) subheadings 7317.00.55, 7317.00.65 and 7317.00.75.

Excluded from the scope of this proceeding are roofing nails of all lengths and diameter, whether collated or in bulk, and whether or not galvanized. Steel roofing nails are specifically enumerated and identified in ASTM Standard F 1667 (2005 revision) as Type I, Style 20 nails. Also excluded from the scope of this proceeding are corrugated nails. A corrugated nail is made of a small strip of corrugated steel with sharp points on one side. Also excluded from the scope of this proceeding are fasteners suitable for use in powder-actuated hand tools, not threaded and threaded, which are currently classified under HTSUS 7317.00.20 and 7317.00.30. Also excluded from the scope of this proceeding are thumb tacks, which are currently classified under HTSUS 7317.00.10.00. Also excluded from the scope of this proceeding are certain brads and finish nails that are equal to or less than 0.0720 inches in shank diameter, round or rectangular in cross section, between 0.375 inches and 2.5 inches in length, and that are collated with adhesive or polyester film tape backed with a heat seal adhesive. Also excluded from the scope of this proceeding are fasteners having a case hardness greater than or equal to 50 HRC, a carbon content greater than or equal to 0.5 percent, a round head, a secondary reduced-diameter raised head section, a centered shank, and a smooth symmetrical point, suitable for use in gas-actuated hand tools.

While the HTSUS subheadings are provided for convenience and customs purposes, the written description of the scope of this investigation is dispositive.

Ministerial Error Allegations

On June 16, 2008, ITW ¹ and Xingya Group ² filed timely allegations that the Department made certain ministerial errors in the calculation of their respective antidumping duty margins. Petitioners ³ made no ministerial error allegations but on June 23, 2008, submitted timely rebuttal comments to ITW's and Xingya Group's allegations. Ministerial errors are defined in section 735(e) of the Act as “errors in addition, subtraction, or other arithmetic function, clerical errors resulting from inaccurate copying, duplication, or the like, and any other similar type of unintentional error which the {Secretary} considers ministerial.”

¹ Illinois Tool Works Inc., Paslode Division (“ITW Paslode”) and Paslode Fasteners (Shanghai) Co., Ltd. (“Paslode Shanghai”), (collectively, “ITW”).

² Suzhou Xingya Nail Co., Ltd, Senco-Xingya Metal Products (Taicang) Co., Ltd., Yunfa International Resources Inc., Senco Products, Inc. (“Senco”), and Omnifast Inc. (“Omnifast”) (collectively “Xingya Group”).

³ Petitioners are: Mid Continent Nail Corporation; Davis Wire Corporation; Gerdau Ameristeel Corporation (Atlas Steel & Wire Division); Maze Nails (Division of W.H. Maze Company); Treasure Coast Fasteners, Inc.; and United Steel, Paper and Forestry, Rubber, Manufacturing, Energy, Allied Industrial and Service Workers International Union.

Comment 1: Improper Application of Partial Adverse Facts Available (“AFA”) for ITW's Indirect Labor

ITW contends that the Department ignored the arguments it submitted in its rebuttal brief, evidencing that ITW properly reported all indirect labor hours. ITW further contends that the Department's Issues and Decision Memorandum (“IDM”) that accompanied the Final Determination did not reflect an examination of the record evidence it cited in support of its argument, specifically exhibits 18A and 18B of the Department's Paslode Shanghai Verification Report.⁴ ITW concludes that the Department should correct this oversight, including both the margin calculation and the incorrect statements in the IDM.

⁴ See Memorandum to the File through Alex Villanueva, Program Manager, Office 9, from Nicole Bankhead, Senior Case Analyst: Verification of the Sales and Factors Response of Paslode Fasteners (Shanghai) Co., Ltd. in the Antidumping Investigation of Certain Steel Nails from the People's Republic of China, dated April 15, 2008.

In rebuttal, Petitioners argue that the Department explicitly summarized and noted ITW's arguments and correctly rejected them in weighing the evidence and rendering its decision. Petitioners contend that ITW's allegation is both contrary to the record evidence and does not constitute a ministerial error within the meaning of 19 CFR 351.224. Petitioners conclude that the Department's determination was deliberate and reflects a decision based on the record evidence and argument.

Analysis

We disagree with ITW that we made a ministerial error in applying partial AFA to its indirect labor factor of production (“FOP”). ITW's disagreement with our application of partial AFA is methodological, rather than ministerial, in nature. We affirmatively addressed this issue, including ITW's arguments, in Comment 20F of our IDM and explained that the record supported our finding that ITW failed to account for certain indirect labor workers in its FOP data.

Comment 2: Improper Exclusion of Indian Imports of North Korean Merchandise for Three Surrogate Values

Xingya Group argues that the Department improperly excluded Indian imports of North Korean merchandise from the calculation of the surrogate values for three FOPs (collating copper-plated wire, collating stainless steel wire, and ink). Xingya Group states that it is the Department's normal policy to include data from countries such as North Korea for which it has not made a determination as to their non-market economy (“NME”) status. Xingya Group cites to the final determination of the PRC Furniture investigation, where the Department included Indian imports of plywood from Myanmar, even though respondents alleged it was a NME. See Final Determination of Sales at Less than Fair Value: Wooden Bedroom Furniture from the People's Republic of China, 69 FR 67313 (November 17, 2004), and accompanying Issues and Decision Memorandum at Comment 70 (“PRC Furniture”).

In rebuttal, Petitioners contend that the Department correctly excluded the Indian imports of North Korean merchandise. Petitioners note that in PRC Furniture, the Department's ultimate decision did not require addressing Myanmar's status as an NME country. Petitioners further note that the Department has more recent, direct precedent with respect to North Korea, citing to Helical Spring Lock Washers from the People's Republic of China: Final Results of Antidumping Duty Administrative Review, 73 FR 4175 (January 24, 2008), and accompanying Issues and Decision Memorandum at Comment 3 (“Helical Spring Lock Washers”), “Consistent with our determination in fish fillets from Vietnam, we have excluded Indian imports from North Korea from our stainless SWR surrogate value calculation.” Additionally, Petitioners note that even though there has never been a U.S. antidumping duty case against North Korean imports requiring NME analysis, the Department may determine to exclude a country's trade data as being non-market without a case history. See http://ia/ita.doc.gov/admanual/admanual_ch08.pdf.

Analysis

The Department's decision to exclude Indian imports of North Korean merchandise was also methodological rather than clerical in nature. As the two alleged errors discussed above do not meet the definition of a ministerial error under 19 CFR 351.224(f), we are not issuing an amended final determination.

Antidumping Duty Order

On July 21, 2008, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price (or constructed export price) of the merchandise for all relevant entries of certain steel nails from the PRC. These antidumping duties will be assessed on all unliquidated entries of certain steel nails from the PRC entered, or withdrawn from the warehouse, for consumption on or after January 23, 2008, the date on which the Department published its preliminary determination. See Certain Steel Nails from the People's Republic of China: Preliminary Determination of Sales at Less Than Fair Value and Partial Affirmative Determination of Critical Circumstances and Postponement of Final Determination, 73 FR 3928 (January 23, 2008) (“Preliminary Determination”).

The ITC also notified the Department that it made a negative critical circumstances determination in this investigation. Therefore, we will instruct CBP to lift suspension, release any bond or other security, and refund any cash deposit made to secure the payment of antidumping duties with respect to entries of the merchandise entered, or withdrawn from warehouse, for consumption on or after October 25, 2007, but before January 23, 2008 (i.e., the 90 days prior to the date of publication of the Preliminary Determination).

Effective on the date of publication of the ITC's final affirmative injury determination, CBP will require, at the same time as importers would normally deposit estimated duties on this merchandise, a cash deposit equal to the estimated weighted-average antidumping duty margins as listed below. See section 735(c)(3) of the Act. The “PRC-wide” rate applies to all exporters of subject merchandise not specifically listed. The weighted-average dumping margins are as follows:

Certain Steel Nails From the PRC Weighted-Average Dumping Margins
Exporter | Producer | Weighted- average margin (in percent)
Paslode Fasteners (Shanghai) Co., Ltd | Paslode Fasteners (Shanghai) Co., Ltd | 0.00
Xingya Group:
Suzhou Xingya Nail Co., Ltd | Suzhou Xingya Nail Co., Ltd. | 21.24
Senco-Xingya Metal Products (Taicang) Co., Ltd. | Senco-xingya Metal Products (Taicang) Co., Ltd
Hong Kong Yu Xi Co., Ltd | Wuxi Chengye Metal Products Co., Ltd
Jisco Corporation | Qingdao Jisco Co., Ltd | 21.24
Koram Panagene Co., Ltd | Qingdao Koram Steel Co., Ltd | 21.24
Handuk Industrial Co., Ltd | Rizhao Handuk Fasteners Co., Ltd | 21.24
Handuk Industrial Co., Ltd | Rizhao Changxing Nail-Making Co., Ltd | 21.24
Kyung Dong Corp | Rizhao Qingdong Electric Appliance Co., Ltd | 21.24
Xi'an Metals & Minerals Import and Export Co., Ltd | Huanghua Jinhai Hardware Products Co., Ltd | 21.24
Hebei Cangzhou New Century Foreign Trade Co., Ltd | Huanghua Jinhai Hardware Products Co., Ltd | 21.24
Hebei Cangzhou New Century Foreign Trade Co., Ltd | Beijing Hongsheng Metal Products Co., Ltd | 21.24
Hebei Cangzhou New Century Foreign Trade Co., Ltd | Tianjin Dagang Huasheng Nailery Co., Ltd | 21.24
Chongqing Hybest Tools Group Co., Ltd | Chongqing Hybest Nailery Co., Ltd | 21.24
China Silk Trading & Logistics Co., Ltd | Maanshan Longer Nail Product Co., Ltd | 21.24
China Silk Trading & Logistics Co., Ltd | Wuxi Qiangye Metalwork Production Co., Ltd | 21.24
Beijing Daruixing Global Trading Co., Ltd | Beijing Tri-Metal Co., Ltd | 21.24
Beijing Daruixing Global Trading Co., Ltd | Beijing Daruixing Nail Products Co., Ltd | 21.24
Beijing Daruixing Global Trading Co., Ltd | Tianjin Kunxin Hardware Co., Ltd | 21.24
Beijing Daruixing Global Trading Co., Ltd | Tianjin Hewang Nail Making Factory | 21.24
Huanghua Jinhai Hardware Products Co., Ltd | Huanghua Jinhai Hardware Products Co., Ltd | 21.24
Beijing Daruixing Nail Products Co., Ltd | Beijing Daruixing Nail Products Co., Ltd | 21.24
Beijing Daruixing Nail Products Co., Ltd | Beijing Tri-Metal Co., Ltd | 21.24
Beijing Tri-Metal Co., Ltd | Beijing Tri-Metal Co., Ltd | 21.24
Beijing Tri-Metal Co., Ltd | Beijing Daruixing Nail Products Co., Ltd | 21.24
Cana (Tianjin) Hardware Ind., Co., Ltd | Cana (Tianjin) Hardware Ind., Co., Ltd | 21.24
China Staple Enterprise (Tianjin) Co., Ltd | China Staple Enterprise (Tianjin) Co., Ltd | 21.24
Hengshui Mingyao Hardware & Mesh Products Co., Ltd | Hengshui Mingyao Hardware & Mesh Products Co., Ltd | 21.24
Nanjing Dayu Pneumatic Gun Nails Co., Ltd | Nanjing Dayu Pneumatic Gun Nails Co., Ltd | 21.24
Qidong Liang Chyuan Metal Industry Co., Ltd | Qidong Liang Chyuan Metal Industry Co., Ltd | 21.24
Romp (Tianjin) Hardware Co., Ltd | Romp (Tianjin) Hardware Co., Ltd | 21.24
Shandong Dinglong Import & Export Co., Ltd | Qingyun Hongyi Hardware Factory | 21.24
Tianjin Jinchi Metal Products Co., Ltd | Tianjin Jinchi Metal Products Co., Ltd | 21.24
Tianjin Jurun Metal Products Co., Ltd | Tianjin Jurun Metal Products Co., Ltd | 21.24
Zhejiang Gem-Chun Hardware Accessory Co., Ltd | Zhejiang Gem-Chun Hardware Accessory Co., Ltd | 21.24
Huanghua Xionghua Hardware Products Co., Ltd | Huanghua Xionghua Hardware Products Co., Ltd | 21.24
Zhaoqing Harvest Nails Co., Ltd | Zhaoqing Harvest Nails Co., Ltd | 21.24
SDC International Australia Pty., Ltd | S-mart Tianjin Technology Development Co., Ltd | 21.24
SDC International Australia Pty., Ltd | Tianjin Jishili Hardware Co., Ltd | 21.24
SDC International Australia Pty., Ltd | Tianjin Baisheng Metal Product Co., Ltd | 21.24
SDC International Australia Pty., Ltd | Tianjin Foreign Trade (Group) Textile & Garment Co., Ltd | 21.24
SDC International Australia Pty., Ltd | Dagang Zhitong Metal Products Co., Ltd | 21.24
Tianjin Universal Machinery Imp & Exp Corporation | Huanghua Shenghua Hardware Manufactory Factory | 21.24
Tianjin Universal Machinery Imp & Exp Corporation | Tianjin Dagang Dongfu Metallic Products Co., Ltd | 21.24
Tianjin Universal Machinery Imp & Exp Corporation | Tianjin Dagang Jingang Nail Factory | 21.24
Tianjin Universal Machinery Imp & Exp Corporation | Tianjin Dagang Linda Metallic Products Co., Ltd | 21.24
Tianjin Universal Machinery Imp & Exp Corporation | Tianjin Dagang Yate Nail Co., Ltd | 21.24
Tianjin Universal Machinery Imp & Exp Corporation | Tianjin Jieli Hengyuan Metallic Products Co., Ltd | 21.24
Tianjin Universal Machinery Imp & Exp Corporation | Tianjin Shishun Metallic Products Co., Ltd | 21.24
Tianjin Universal Machinery Imp & Exp Corporation | Tianjin Yihao Metallic Products Co., Ltd | 21.24
Tianjin Universal Machinery Imp & Exp Corporation | Tianjin Yongcang Metallic Products Co., Ltd | 21.24
Certified Products International Inc | Huanghua Jinhai Hardware Products Co., Ltd | 21.24
Certified Products International Inc | Shanxi Yuci Broad Wire Products Co., Ltd | 21.24
Certified Products International Inc | Hengshui Mingyao Hardware & Mesh Products Co., Ltd | 21.24
Certified Products International Inc | Tianjin Zhonglian Metals Ware Co., Ltd | 21.24
Certified Products International Inc | Beijing Daruixing Nail Products Co., Ltd | 21.24
Certified Products International Inc | Huanghua Xionghua Hardware Products Co., Ltd | 21.24
Certified Products International Inc | Tianjin Port Free Trade Zone Xiangtong Intnl. Industry & Trade Corp | 21.24
Certified Products International Inc | Shandong Dinglong Import & Export Co., Ltd | 21.24
Certified Products International Inc | Wuhu Shijie Hardware Co., Ltd | 21.24
Certified Products International Inc | Romp (Tianjin) Hardware Co., Ltd | 21.24
Certified Products International Inc | Tianjin Jurun Metal Products Co., Ltd | 21.24
Certified Products International Inc | Yitian (Nanjing) Hardware Co., Ltd | 21.24
Certified Products International Inc | Nanjing Da Yu Pneumatic Gun Nails Co., Ltd | 21.24
Certified Products International Inc | Wintime Import & Export Corporation Limited of Zhongshan | 21.24
Certified Products International Inc | Tianjin Chentai International Trading Co., Ltd | 21.24
Certified Products International Inc | Tianjin Longxing (Group) Huanyu Imp. & Exp. Co., Ltd | 21.24
Certified Products International Inc | Zhejiang Gem-Chun Hardware Accessory Co., Ltd | 21.24
Certified Products International Inc | Shanxi Pioneer Hardware Industrial Co., Ltd | 21.24
Certified Products International Inc | Wuhu Xin Lan De Industrial Co., Ltd | 21.24
Certified Products International Inc | Tianjin Zhitong Metal Products Co., Ltd | 21.24
Certified Products International Inc | Suntec Industries Co., Ltd | 21.24
Certified Products International Inc | China Staple Enterprise (Tianjin) Co., Ltd | 21.24
Certified Products International Inc | Tianjin Jinghai County Hongli Industry & Business Co., Ltd | 21.24
Certified Products International Inc | Hebei Super Star Pneumatic Nails Co., Ltd | 21.24
Certified Products International Inc | Shanghai Chengkai Hardware Products Co., Ltd | 21.24
Certified Products International Inc | Tianjin Jinchi Metal Products Co., Ltd | 21.24
Certified Products International Inc | Shaoxing Chengye Metal Producting Co., Ltd | 21.24
Certified Products International Inc | Tianjin Shenyuan Steel Producting Group Co., Ltd | 21.24
Certified Products International Inc | Shanghai Jade Shuttle Hardware Tools Co., Ltd | 21.24
Dezhou Hualude Hardware Products Co., Ltd | Tianjin Bosai Hardware Tools Co., Ltd | 21.24
Dezhou Hualude Hardware Products Co., Ltd | Beijing Yonghongsheng Metal Products Co., Ltd | 21.24
Dezhou Hualude Hardware Products Co., Ltd | Tianjin City Jinchi Metal Products Co., Ltd | 21.24
Dezhou Hualude Hardware Products Co., Ltd | Huanghua Huarong Hardware Products Co., Ltd | 21.24
Dezhou Hualude Hardware Product Co., Ltd | Huanghua Yufutai Hardware Products Co., Ltd | 21.24
Dezhou Hualude Hardware Products Co., Ltd | Qingyuan County Hongyi Hardware Products Factory | 21.24
Dezhou Hualude Hardware Products Co., Ltd | Tianjin Zhitong Metal Products Co., Ltd | 21.24
Dezhou Hualude Hardware Products Co., Ltd | Tianjin Baisheng Metal Products Co., Ltd | 21.24
Dezhou Hualude Hardware Products Co., Ltd | Tianjin Dagang Hewang Nails Factory | 21.24
Shanxi Tianli Industries Co | Dingzhou Ruili Nail Production Co., Ltd | 21.24
Shanxi Tianli Industries Co | Haixing Hongda Hardware Production Co., Ltd | 21.24
Shanxi Tianli Industries Co | Huanghua Xinda Nail Production Co., Ltd | 21.24
Shanxi Tianli Industries Co | Tianjin Huachang Metal Products Co., Ltd | 21.24
Shanxi Tianli Industries Co | Tianjin Huapeng Metal Company | 21.24
Shanxi Tianli Industries Co | Tianjin Huasheng Nails Production Co., Ltd | 21.24
Shanxi Tianli Industries Co | Tianjin Jin Gang Metal Products Co., Ltd | 21.24
Shanxi Tianli Industries Co | Tianjin Kunxin Metal Products Co., Ltd | 21.24
Shanxi Tianli Industries Co | Tianjin Linda Metal Company | 21.24
Shanxi Tianli Industries Co | Tianjin Xinyuansheng Metal Products Co., Ltd | 21.24
Shanxi Tianli Industries Co | Tianjin Yongyi Standard Parts Production Co., Ltd | 21.24
Shanxi Tianli Industries Co | Wuqiao Huifeng Hardware Production Co., Ltd | 21.24
Suntec Industries Co., Ltd | Wuqiao County Huifeng Hardware Products Factory | 21.24
Suntec Industries Co., Ltd | Wuqiao County Xinchuang Hardware Products Factory | 21.24
Suntec Industries Co., Ltd | Huanghua Jinhai Hardware Products Co., Ltd | 21.24
Suntec Industries Co., Ltd | Haixing Linhai Hardware Products Factory | 21.24
Suntec Industries Co., Ltd | Tianjin Baisheng Metal Products Co., Ltd | 21.24
Suntec Industries Co., Ltd | Tianjin City Jinchi Metal Products Co., Ltd | 21.24
Suntec Industries Co., Ltd | Tianjin City Dagang Area Jinding Metal Products Factory | 21.24
Suntec Industries Co., Ltd | Tianjin Jishili Hardware Products Co., Ltd | 21.24
Suntec Industries Co., Ltd | Tianjin Jietong Hardware Products Co., Ltd | 21.24
Suntec Industries Co., Ltd | Tianjin Ruiji Metal Products Co., Ltd | 21.24
Suntec Industries Co., Ltd | Tianjin Yongxu Metal Products Co., Ltd | 21.24
Suntec Industries Co., Ltd | Wuxi Baolin Nail-Making Machinery Co., Ltd | 21.24
Suntec Industries Co., Ltd | Suzhou Xingya Nail Co., Ltd | 21.24
Sinochem Tianjin Imp & Exp Shenzhen Corp | Tianjin JLHY Metal Products Co., Ltd | 21.24
Qingdao D&L Group Ltd | Tianjin City Daman Port Area Jinding Metal Products Factory | 21.24
Qingdao D&L Group Ltd | Tianjin Yongxu Metal Products Co., Ltd | 21.24
Qingdao D&L Group Ltd | Huanghua Jinhai Metal Products Co., Ltd | 21.24
Qingdao D&L Group Ltd | Dong'e Fuqiang Metal Products Co., Ltd | 21.24
Tianjin Xiantong Material & Trade Co., Ltd | Tianjin Xiantong Fucheng Gun Nail Manufacture Co., Ltd | 21.24
Zhongshan Junlong Nail Manufactures Co., Ltd | Zhongshan Junlong Nail Manufactures Co., Ltd | 21.24
Shandong Minmetals Co., Ltd | Shouguang Meiqing Nail Industry Co., Ltd | 21.24
Shouguang Meiqing Nail Industry Co., Ltd | Shouguang Meiqing Nail Industry Co., Ltd | 21.24
S-mart (Tianjin) Technology Development Co., Ltd | Tianjin Jishili Hardware Co., Ltd | 21.24
S-mart (Tianjin) Technology Development Co., Ltd | Tianjin Baisheng Metal Product Co., Ltd | 21.24
S-mart (Tianjin) Technology Development Co., Ltd | Tianjin Dagang Hewang Nail Factory | 21.24
S-mart (Tianjin) Technology Development Co., Ltd | Tianjin Shishun Metal Product Co., Ltd | 21.24
S-mart (Tianjin) Technology Development Co., Ltd | Tianjin Xinyuansheng Metal Product Co., Ltd | 21.24
S-mart (Tianjin) Technology Development Co., Ltd | Tianjin Yongchang Metal Product Co., Ltd | 21.24
Tianjin Lianda Group Co., Ltd | Tianjin Dagang Hewang Nails Manufacture Plant | 21.24
Tianjin Lianda Group Co., Ltd | Tianjin Dagang Jingang Nails Manufacture Plant | 21.24
Tianjin Lianda Group Co., Ltd | Tianjin Dagang Longhua Metal Products Plant | 21.24
Tianjin Lianda Group Co., Ltd | Tianjin Dagang Shenda Metal Products Co., Ltd | 21.24
Tianjin Lianda Group Co., Ltd | Tianjin Jietong Metal Products Co., Ltd | 21.24
Tianjin Lianda Group Co., Ltd | Tianjin Qichuan Metal Products Co., Ltd | 21.24
Tianjin Lianda Group Co., Ltd | Tianjin Yongxu Metal Products Co., Ltd | 21.24
Tianjin Lianda Group Co., Ltd | Zhangjiagang Longxiang Packing Materials Co., Ltd | 21.24
Union Enterprise (Kunshan) Co., Ltd | Union Enterprise (Kunshan) Co., Ltd | 21.24
Beijing Hong Sheng Metal Products Co., Ltd | Beijing Hong Sheng Metal Products Co., Ltd | 21.24
PT Enterprise Inc | Shanxi Hairui Trade Co., Ltd | 21.24
PT Enterprise Inc | Shanxi Pioneer Hardware Industrial Co., Ltd | 21.24
PT Enterprise Inc | Shanxi Yuci Broad Wire Products Co., Ltd | 21.24
Shanxi Hairui Trade Co., Ltd | Shanxi Pioneer Hardware Industrial Co., Ltd | 21.24
Shanxi Hairui Trade Co., Ltd | Shanxi Yuci Broad Wire Products Co., Ltd | 21.24
Shanxi Pioneer Hardware Industrial Co., Ltd | Shanxi Pioneer Hardware Industrial Co., Ltd | 21.24
Shanxi Yuci Broad Wire Products Co., Ltd | Shanxi Yuci Broad Wire Products Co., Ltd | 21.24
Yitian Nanjing Hardware Co., Ltd | Yitian Nanjing Hardware Co., Ltd | 21.24
Chiieh Yung Metal Ind. Corp | Cym (Nanjing) Nail Manufacture Co., Ltd | 21.24
Shanghai Seti Enterprise International Co., Ltd | Suzhou Yaotian Metal Products Co., Ltd | 21.24
Shanghai Curvet Hardware Products Co., Ltd | Shanghai Curvet Hardware Products Co., Ltd | 21.24
Shanghai Curvet Hardware Product Co., Ltd | Shanghai Tengyu Hardware Tools Co., Ltd | 21.24
Shanghai Tengyu Hardware Tools Co., Ltd | Shanghai Tengyu Hardware Tools Co., Ltd | 21.24
Shanghai Tengyu Hardware Tools Co., Ltd | Shanghai Curvet Hardware Products Co., Ltd | 21.24
Xuzhou CIP International Group Co., Ltd | Xuzhou CIP International Group Co., Ltd | 21.24
Xuzhou CIP International Group Co., Ltd | Qingdao International Fastening Systems Inc | 21.24
Wuhu Shijie Hardware Co., Ltd | Wuhu Shijie Hardware Co., Ltd | 21.24
Wuhu Xin Lan De Industrial Co., Ltd | Wuhu Xin Lan De Industrial Co., Ltd | 21.24
Tianjin Zhonglian Metals Ware Co., Ltd | Tianjin Zhonglian Metals Ware Co., Ltd | 21.24
Jining Huarong Hardware Products Co., Ltd | Jining Huarong Hardware Products Co., Ltd | 21.24
Mingguang Abundant Hardware Products Co., Ltd | Mingguang Abundant Hardware Products Co., Ltd | 21.24
Shandong Oriental Cherry Hardware Group Co., Ltd | Shandong Oriental Cherry Hardware Group Co., Ltd | 21.24
Shandong Oriental Cherry Hardware Import and Export Co., Ltd | Shandong Oriental Cherry Hardware Import and Export Co., Ltd | 21.24
Shanghai Chengkai Hardware Product. Co., Ltd | Shanghai Chengkai Hardware Product. Co., Ltd | 21.24
Shanghai Jade Shuttle Hardware Tools Co., Ltd | Shanghai Jade Shuttle Hardware Tools Co., Ltd | 21.24
Shanghai Yueda Nails Industry Co., Ltd | Shanghai Yueda Nails Industry Co., Ltd | 21.24
Besco Machinery Industry (Zhejiang) Co., Ltd | Besco Machinery Industry (Zhejiang) Co., Ltd | 21.24
The Stanley Works (Langfang) Fastening Systems Co., Ltd | The Stanley Works (Langfang) Fastening Systems Co., Ltd | 21.24
Guangdong Foreign Trade Import & Export Corporation | Shanghai Nanhui Jinjun Hardware Factory | 21.24
Tianjin Jinghai County Hongli Industry and Business Co., Ltd | Tianjin Jinghai County Hongli Industry and Business Co., Ltd | 21.24
PRC-Wide Rate |  | 118.04

This notice constitutes the antidumping duty order with respect to certain steel nails from the PRC pursuant to section 736(a) of the Act. Interested parties may contact the Department's Central Records Unit, Room 1117 of the main Commerce building, for copies of an updated list of antidumping duty orders currently in effect.

This order is published in accordance with section 736(a) of the Act and 19 CFR 351.211.

Dated: July 28, 2008.
David M. Spooner,
Assistant Secretary for Import Administration.

[FR Doc. E8-17714 Filed 7-31-08; 8:45 am]

BILLING CODE 3510-DS-P